DEPARTMENT OF COMMERCE

International Trade Administration

[A-570-007]

Barium Chloride From the People's Republic of China: Rescission of Antidumping Duty Administrative Review

AGENCY: Import Administration, International Trade Administration, Department of Commerce.

ACTION: Notice of rescission of antidumping duty administrative review.

EFFECTIVE DATE: February 27, 2003.

FOR FURTHER INFORMATION CONTACT: Drew Jackson of John Conniff at (202) 482-4406 or (202) 482-1009, respectively; AD/CVD Enforcement, Office 4, Group II, Import Administration, International Trade Administration, U.S. Department of Commerce, 14th Street and Constitution Avenue, NW., Washington, DC 20230.

SUPPLEMENTARY INFORMATION:

Background

On October 2, 2002, the Department of Commerce (the Department) published a notice of opportunity to request an administrative review of the antidumping duty order on barium chorloride from the People's Republic of China (PRC) (67 FR 61849). Pursuant to a request made by Chemical Products Corporation (the petitioner), the Department initiated an administrative review of the antidumpimg duty order on barium chloride from the PRC for the period October 1, 2001, through September 30, 2002, on November 18, 2002 (67 FR 70402); (November 22, 2002). On January 7, 2003, the petitioner withdrew its request for the administrative review of barium chloride from the PRC.

Rescission of Review

Section 351.213(d)(1) of the Department's regulations provides that a party that requests an administrative review may withdraw the request within 90 days after the date of publication of the notice of initiation of the requested administrative review. The Department is rescinding the administrative review of the order on barium chloride from the PRC for the period October 1, 2001, through September 30, 2002, because the requesting party has withdrawn its request for this administrative review within the 90-day time limit and no other interested parties have requested a review of barium chloride from the PRC for this time period.

This notice is in accordance with section 777(i)(1) of the Act and 19 CFR 351.213(d)(4).

Dated: February 20, 2003.
Bernard T. Carreau,
Deputy Assistant Secretary for Import Administration.

[FR Doc. 03-4582 Filed 2-26-03; 8:45 am]

BILLING CODE 3510-DS-M